FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants

DLR Mercantile Shipping USA Inc., 295 Parkside Drive, Suffern, NY 10901. Officers: Gary S. Neiman, Director, (Qualifying Individual), Charles J. Marrale, Director.

RS Auto Expo and Shipping Line, 174 Rue Jubile, Qt Residence Du, Benin BP 12.907, Lome, Togo. Ali Hussein Hakim, Sole Proprietor.

Windsor Shipping, Inc., 88-29 183rd Street, Hollis, Queens, NY 11423. Officer: Ramtaigh Singh, President, (Qualifying Individual).

PAX Global Cargo U.S.A., LLC, 9800 S. La Cienega Blvd., Inglewood, CA 90301. Officer: Chul H. Choi, Member, (Qualifying Individual).

Premium Cargo, LLC, 8248 NW 68th Street, Miami, FL 33166, Officers: Sandra N. Fernandez, Member, (Qualifying Individual), Jeannina M. Sieaja, Member.

TBS Logistics Incorporated dba Magnum Lines, 11731 Jones Road, Suite 200, Houston, TX 77070. Officers: Judi Copeland, Vice President, (Qualifying Individual), Donald Rawlings, President.

Non-Vessel Operating Common Carrier and Ocean Freight Forwarder Transportation Intermediary Applicant

Nova World International, LLC dba Nova Shipping, 5304 Pond Bluff, West Bloomfield, MI 48323. Officer: Yevgenly R. Epshteyn, President, (Qualifying Individual).

Office Shop Inc. dba Logistics Miami, 7812 NW 46th Street, Miami, FL 33166. Officers: Juan A. Guevara, President, (Qualifying Individual), Maritza Pasquier, Vice President.

Cargo Logistics Group, Inc., 7380 Coca Cola Drive, Hanover, MD 21076. Officers: Cathy Hammontree, Operations Specialist, (Qualifying Individual), David M. Cook, President.

Portugalia Sales, Inc., 109 Ferry Street, Newark, NJ 07105. Officers: Carlos G. Fonseca, President, (Qualifying Individual), Rosa M. Mocreia, Vice President.

PISC International, Inc., 601 Century Plaza Drive, Houston, TX 77073. Officers: Mohammed S Hassan Mohamed, Operations Manager, (Qualifying Individuals), Michael J. Hellail, President.

Gibert Logistics LLC, 27 Neron Place, New Orleans, LA 70118. Officer: Stewart Gibert, Sr., Member/Manager, (Qualifying Individual).

AMT Trust LLC dba BR Courier LLC, 501 Washington Avenue, Carlstadt, NJ 07072. Officers: Aloysio Bayde, Managing Member, (Qualifying Individual), Jose Moreira, Member.

FJ Logistics Services, LLC, 1307 West Sixth Street, Corona, CA 92882. Officers: Winfred Kizu, General Manager, (Qualifying Individual).

Ocean Freight Forwarder—Ocean Transportation Intermediary Applicant

Golden Egg Warehouse Logistics, 5401 San Leandro Street, Unit C, Oakland, CA 94601. Chau Thai, Sole Proprietor.

Dated: March 21, 2008.
Karen V. Gregory,
Assistant Secretary.

[FR Doc. E8-6159 Filed 3-25-08; 8:45 am]

BILLING CODE 6730-01-P